DEPARTMENT OF ENERGY

Federal Energy Regulatory Commission

Combined Notice of Filings #1

Take notice that the Commission received the following electric corporate filings:

Docket Numbers: EC21-48-000.

Applicants: Sun Streams PVS, LLC.

Description: Application for Authorization Under Section 203 of the Federal Power Act of Sun Streams PVS, LLC.

Filed Date: 1/29/21.

Accession Number: 20210129-5128.

Comments Due: 5 p.m. ET 2/19/21.

Take notice that the Commission received the following exempt wholesale generator filings:

Docket Numbers: EG21-76-000; EG21-77-000; EG21-78-000.

Applicants: Copper Mountain Solar 5, LLC, Battle Mountain SP, LLC, Water Strider Solar, LLC.

Description: Notice of Self-Certification of Exempt Wholesale Generator Status of Copper Mountain Solar 5 et al.

Filed Date: 1/21/21.

Accession Number: 20210121-5442.

Comments Due: 5 p.m. ET 2/11/21.

Docket Numbers: EG21-79-000.

Applicants: Chevron Power Holdings Inc.

Description: Notice of Self-Certification of Exempt Wholesale Generator Status of Chevron Power Holdings Inc.

Filed Date: 1/28/21.

Accession Number: 20210128-5241.

Comments Due: 5 p.m. ET 2/18/21.

Docket Numbers: EG21-80-000.

Applicants: BRP Alvin BESS LLC.

Description: Notice of Self-Certification of Exempt Wholesale Generator Status of BRP Alvin BESS LLC.

Filed Date: 1/29/21.

Accession Number: 20210129-5105.

Comments Due: 5 p.m. ET 2/19/21.

Docket Numbers: EG21-81-000.

Applicants: Prospero II Master Tenant, LLC.

Description: Notice of Self-Certification of Exempt Wholesale Generator Status of Prospero II Master Tenant, LLC.

Filed Date: 1/29/21.

Accession Number: 20210129-5106.

Comments Due: 5 p.m. ET 2/19/21.

Docket Numbers: EG21-82-000.

Applicants: Prospero Solar II, LLC.

Description: Notice of Self-Certification of Exempt Wholesale Generator Status of Prospero Solar II, LLC.

Filed Date: 1/29/21.

Accession Number: 20210129-5112.

Comments Due: 5 p.m. ET 2/19/21.

Docket Numbers: EG21-83-000.

Applicants: BRP Magnolia BESS LLC.

Description: Notice of Self-Certification of Exempt Wholesale Generator Status of BRP Magnolia BESS LLC.

Filed Date: 1/29/21.

Accession Number: 20210129-5117.

Comments Due: 5 p.m. ET 2/19/21.

Docket Numbers: EG21-84-000.

Applicants: BRP Odessa Southwest BESS LLC.

Description: Notice of Self-Certification of Exempt Wholesale Generator Status of BRP Odessa Southwest BESS LLC.

Filed Date: 1/29/21.

Accession Number: 20210129-5119.

Comments Due: 5 p.m. ET 2/19/21.

Docket Numbers: EG21-85-000.

Applicants: BRP Angleton BESS LLC.

Description: Notice of Self-Certification of Exempt Wholesale Generator Status of BRP Angleton BESS LLC.

Filed Date: 1/29/21.

Accession Number: 20210129-5130.

Comments Due: 5 p.m. ET 2/19/21.

Docket Numbers: EG21-86-000.

Applicants: BRP Heights BESS LLC.

Description: Notice of Self-Certification of Exempt Wholesale Generator Status of BRP Heights BESS LLC.

Filed Date: 1/29/21.

Accession Number: 20210129-5131.

Comments Due: 5 p.m. ET 2/19/21.

Docket Numbers: EG21-87-000.

Applicants: BRP Brazoria BESS LLC.

Description: Notice of Self-Certification of Exempt Wholesale Generator Status of BRP Brazoria BESS LLC.

Filed Date: 1/29/21.

Accession Number: 20210129-5132.

Comments Due: 5 p.m. ET 2/19/21.

Take notice that the Commission received the following electric rate filings:

Docket Numbers: ER10-3286-015; ER10-3299-014.

Applicants: Millennium Power Company, LLC, New Athens Generating Company, LLC.

Description: Notice of Change in Status of Millennium Power Company, LLC, et al.

Filed Date: 1/28/21.

Accession Number: 20210128-5253.

Comments Due: 5 p.m. ET 2/18/21.

Docket Numbers: ER11-3391-004; ER11-4589-002; ER11-4591-002;

ER10-2400-013; ER11-4592-002; ER11-4593-002.

Applicants: Dempsey Ridge Wind Farm, LLC, EcoGrove Wind LLC,

Red Hills Wind Project, L.L.C., Nevada Solar One, LLC,

Tatanka Wind Power, LLC, Blue Canyon Windpower LLC.

Description: Notice of Non-Material Change in Status of AENAC Sellers.

Filed Date: 1/28/21.

Accession Number: 20210128-5249.

Comments Due: 5 p.m. ET 2/18/21.

Docket Numbers: ER13-1562-008; ER12-1931-009; ER10-2504-010;

ER12-610-010; ER13-338-008; ER19-592-003.

Applicants: Catalina Solar Lessee, LLC, Pacific Wind Lessee, LLC, Shiloh Wind Project 2, LLC, Shiloh III Lessee, LLC, Shiloh IV Lessee, LLC, Valentine Solar, LLC.

Description: Notice of Change in Status of Catalina Solar Lessee, LLC, et al.

Filed Date: 1/28/21.

Accession Number: 20210128-5250.

Comments Due: 5 p.m. ET 2/18/21.

Docket Numbers: ER19-2626-001.

Applicants: Rosewater Wind Farm LLC.

Description: Notice of Change in Status of Rosewater Wind Farm LLC.

Filed Date: 1/28/21.

Accession Number: 20210128-5251.

Comments Due: 5 p.m. ET 2/18/21.

Docket Numbers: ER20-707-002.

Applicants: Eastern Shore Solar LLC.

Description: Compliance filing: Compliance Filing to be effective 1/1/2020.

Filed Date: 1/29/21.

Accession Number: 20210129-5186.

Comments Due: 5 p.m. ET 2/19/21.

Docket Numbers: ER20-1743-001.

Applicants: Gulf Power Company.

Description: Compliance filing: Notice of Effective Date and Compliance Filing to be effective 1/1/2021.

Filed Date: 1/29/21.

Accession Number: 20210129-5188.

Comments Due: 5 p.m. ET 2/19/21.

Docket Numbers: ER20-1851-003.

Applicants: Whitetail Solar 3, LLC.

Description: Compliance filing: Revised Rate Schedule FERC No. 1 to be effective 7/19/2020.

Filed Date: 1/29/21.

Accession Number: 20210129-5102.

Comments Due: 5 p.m. ET 2/19/21.

Docket Numbers: ER20-1970-001.

Applicants: Diamond Spring, LLC.

Description: Notice of Change in Status of Diamond Spring, LLC.

Filed Date: 1/28/21.

Accession Number: 20210128-5237.

Comments Due: 5 p.m. ET 2/18/21.

Docket Numbers: ER20-1986-001; ER20-2064-002; ER20-1907-002;

ER20-2237-002.

Applicants: Day County Wind I, LLC, High Majestic Wind I, LLC, Minco Wind I, LLC, Weatherford Wind, LLC.

Description: Notice of Non-Material Change in Status of Day County Wind I, LLC, et al.

Filed Date: 1/28/21.

Accession Number: 20210128-5248.

Comments Due: 5 p.m. ET 2/18/21.

Docket Numbers: ER21-968-000.

Applicants: Midcontinent Independent System Operator, Inc.

Description: § 205(d) Rate Filing: 2021-01-28_SA 3324 Chandler Solar Project-ATC 1st Rev GIA (J849) to be effective 1/13/2021.

Filed Date: 1/28/21.

Accession Number: 20210128-5179.

Comments Due: 5 p.m. ET 2/18/21.

Docket Numbers: ER21-969-000.

Applicants: American Electric Power Service Corporation, PJM Interconnection, L.L.C.

Description: § 205(d) Rate Filing: AEP submits Update to Attachment 1 of ILDSA, SA No. 1336 to be effective 1/1/2021.

Filed Date: 1/28/21.

Accession Number: 20210128-5187.

Comments Due: 5 p.m. ET 2/18/21.

Docket Numbers: ER21-970-000.

Applicants: Millennium Power Partners, L.P.

Description: § 205(d) Rate Filing: Notice of Succession to be effective 1/29/2021.

Filed Date: 1/28/21.

Accession Number: 20210128-5199.

Comments Due: 5 p.m. ET 2/18/21.

Docket Numbers: ER21-971-000.

Applicants: Consolidated Edison Company of New York, Inc.

Description: § 205(d) Rate Filing: Amendment to EPS Surcharge 1-28-2021 to be effective 2/1/2021.

Filed Date: 1/29/21.

Accession Number: 20210129-5001.

Comments Due: 5 p.m. ET 2/19/21.

Docket Numbers: ER21-972-000.

Applicants: PJM Interconnection, L.L.C.

Description: Request for Waiver of Tariff Provisions, Expedited Consideration and shortened Comment Period of PJM Interconnection, L.L.C.

Filed Date: 1/28/21.

Accession Number: 20210128-5240.

Comments Due: 5 p.m. ET 2/2/21.

Docket Numbers: ER21-973-000.

Applicants: Jeffers Wind 20, LLC.

Description: Tariff Cancellation: Notice of Cancellation to be effective 1/30/2021.

Filed Date: 1/29/21.

Accession Number: 20210129-5026.

Comments Due: 5 p.m. ET 2/19/21.

Docket Numbers: ER21-974-000.

Applicants: North Community Turbines LLC.

Description: Tariff Cancellation: Notice of Cancellation to be effective 1/30/2021.

Filed Date: 1/29/21.

Accession Number: 20210129-5029.

Comments Due: 5 p.m. ET 2/19/21.

Docket Numbers: ER21-975-000.

Applicants: North Wind Turbines LLC.

Description: Tariff Cancellation: Notice of Cancellation to be effective 1/30/2021.

Filed Date: 1/29/21.

Accession Number: 20210129-5030.

Comments Due: 5 p.m. ET 2/19/21.

Docket Numbers: ER21-976-000.

Applicants: Community Wind North 1 LLC.

Description: Tariff Cancellation: Notice of Cancellation to be effective 1/30/2021.

Filed Date: 1/29/21.

Accession Number: 20210129-5032.

Comments Due: 5 p.m. ET 2/19/21.

Docket Numbers: ER21-977-000.

Applicants: Community Wind North 2 LLC.

Description: Tariff Cancellation: Notice of Cancellation to be effective 1/30/2021.

Filed Date: 1/29/21.

Accession Number: 20210129-5034.

Comments Due: 5 p.m. ET 2/19/21.

Docket Numbers: ER21-978-000.

Applicants: Community Wind North 3 LLC.

Description: Tariff Cancellation: Notice of Cancellation to be effective 1/30/2021.

Filed Date: 1/29/21.

Accession Number: 20210129-5035.

Comments Due: 5 p.m. ET 2/19/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 29, 2021.
Nathaniel J. Davis, Sr.,
Deputy Secretary.

[FR Doc. 2021-02419 Filed 2-4-21; 8:45 am]

BILLING CODE 6717-01-P